DEPARTMENT OF ENERGY

Federal Energy Regulatory Commission

[Docket Nos. ER04-109-000 and EL04-37-000]

Pacific Gas and Electric Co.; Notice of Initiation of Proceeding and Refund Effective Date

January 5, 2004.

Take notice that on December 30, 2003, the Commission issued an order in the above-indicated Docket Nos. initiating a proceeding in Docket No. EL04-37-000 under section 206 of the Federal Power Act.

The refund effective date in Docket No. EL04-37-000 will be 60 days after publication of this notice in the Federal Register.

Magalie R. Salas,
Secretary.

[FR Doc. E4-32 Filed 1-9-04; 8:45 am]

BILLING CODE 6717-01-P